DEPARTMENT OF THE INTERIOR

Bureau of Land Management

[UT-912-03-1120-PG-24-1A]

Notice of Resource Advisory Council Meeting and Field Tour

AGENCY: Bureau of Land Management, Department of the Interior.

ACTION: Notice of Utah Resource Advisory Council (RAC) meeting.

SUMMARY: The purpose of this notice is to announce a Resource Advisory Council Meeting and field tour scheduled for May 1-2, 2003, Price, Utah.

The Bureau of Land Management's (BLM) Utah Statewide Resource Advisory Council (RAC) will be meeting at the Holiday Inn (located at 838 Westwood Blvd) on May 1, 2003, 9:30 a.m., for a field tour of the northern portion of the San Rafael Swell. Issues to be discussed will be Easter weekend status (camping, law enforcement, etc); tour of the Buckhorn Wash (partnership with Emery County, OHV route designation plan, and WSAs); and a tour of the Wedge Overlook (wildlife and T/E species).

On May 2, from 8 a.m. until 2:30 p.m., the Council will meet in the conference room at the Holiday Inn in Price. There will be reports from the RAC subgroups, a discussion on wild and scenic rivers, and an overview of the grazing regulations and policy changes.

A public comment period is scheduled from 2 p.m.-2:30 p.m. where members of the public may address the Council. Written comments may be mailed to the Bureau of Land Management at the address listed below.

All meetings are open to the public; however, transportation, lodging, and meals are the responsibility of the participating public.

FOR FURTHER INFORMATION CONTACT: Sherry Foot, Special Programs Coordinator, Utah State Office, Bureau of Land Management, 324 South State Street, Salt Lake City, Utah, 84111; phone (801) 539-4195.

Dated: April 4, 2003.
Linda Colville,
Acting State Director.

[FR Doc. 03-9062 Filed 4-11-03; 8:45 am]

BILLING CODE 4310-$$-P